DEPARTMENT OF LABOR

Employment and Training Administration

[TA-W-82,473; TA-W-82,473A]

Northshore Mining Company, a Subsidiary of Cliffs Natural Resources, Including On-Site Leased Workers From Vanhouse, Express Employment and Our Gang Staffing Silver Bay, Minnesota; Northshore Mining Company, a Subsidiary of Cliffs Natural Resources, Including On-Site Leased Workers From Vanhouse, Express Employment and Our Gang Staffing Babbitt, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on March 11, 2013, applicable to workers of Northshore Miming Company, a subsidiary of Cliffs Natural Resources, including on-site leased workers from VanHouse and Express Employment, Silver Bay, Minnesota. The workers are engaged in activities related to the mining of iron ore and production of taconite pellets used to make steel. The notice was published in the Federal Register on April 1, 2013 (78 FR 19532).

At the request of a State agency, the Department reviewed the certification for workers of the subject firm. New information from the company shows that workers at the Babbitt, Minnesota location mine iron ore which is then sent to the Silver Bay, Minnesota facility for processing into taconite pellets. The Silver Bay, Minnesota and the Babbitt, Minnesota locations experienced worker separations during the relevant time period due to a shift in the production of taconite pellets to a foreign country. Information also shows that workers leased from Our Gang Staffing were employed on-site at the Silver Bay, Minnesota and Babbitt, Minnesota locations of Northshore Mining Company, a subsidiary of Cliffs Natural Resources. The Department has determined that these workers were sufficiently under the control of Northshore Mining Company, a subsidiary of Cliffs Natural Resources to be considered leased workers.

Accordingly, the Department is amending the certification to include workers of the Babbitt, Minnesota location of the subject firm including leased workers from Our Gang Staffing working on-site at the Silver Bay, Minnesota and Babbitt, Minnesota locations of the subject firm.

The amended notice applicable to TA-W-82,473 is hereby issued as follows:

All workers from Northshore Mining Company, a subsidiary of Cliffs Natural Resources, including on-site leased workers from VanHouse, Express Employment and Our Gang Staffing, Silver Bay, Minnesota (TA-W-82,473) and Northshore Mining Company, a subsidiary of Cliffs Natural Resources, including on-site leased workers from VanHouse, Express Employment and Our Gang Staffing, Babbitt, Minnesota (TA-W-82,473A), who became totally or partially separated from employment on or after February 15, 2012, through March 11, 2015, and all workers in the group threatened with total or partial separation from employment on date of certification through two years from the date of certification, are eligible to apply for adjustment assistance under Chapter 2 of Title II of the Trade Act of 1974, as amended.

Signed at Washington, DC, this 2nd day of August 2013.
Michael W. Jaffe,
Certifying Officer, Office of Trade Adjustment Assistance.

[FR Doc. 2013-19543 Filed 8-12-13; 8:45 am]

BILLING CODE 4510-FN-P